SMALL BUSINESS ADMINISTRATION

[Declaration of Economic Injury Disaster #9H25]

State of Connecticut (and Contiguous Counties in the State of Rhode Island)

New London County and the contiguous counties of Hartford, Middlesex, Tolland, and Windham in Connecticut, and Kent and Washington Counties in Rhode Island constitute an economic injury disaster loan area as a result of a fire that occurred on March 6, 2000 in the Village of Mystic, in the Town of Groton. Eligible small businesses and small agricultural cooperatives without credit available elsewhere may file applications for economic injury assistance as a result of this disaster until the close of business on February 2, 2001 at the address listed below or other locally announced locations: U.S. Small Business Administration, Disaster Area 1 Office, 360 Rainbow Blvd, South, 3rd Floor, Niagara Falls, NY 14303.

The interest rate for eligible small businesses and small agricultural cooperatives is 4 percent.

The economic injury number for the State of Rhode Island is 9H2600.

(Catalog of Federal Domestic Assistance Program No. 59002)
Dated: May 8, 2000.
Kris Swedin,
Acting Administrator.

[FR Doc. 00-12693 Filed 5-19-00; 8:45 am]

BILLING CODE 8025-01-P